INTERNATIONAL TRADE COMMISSION

[Investigation No. 337-TA-600 ]

In the Matter of Certain Rechargeable Lithium-Ion Batteries, Components Thereof, and Products Containing Same; Notice of Commission Decision Not To Review an Initial Determination Terminating From the Investigation the Last Remaining Respondents Hitachi Koki USA and CDW Corp.; Termination of Investigation

AGENCY: U.S. International Trade Commission.

ACTION: Notice.

SUMMARY: Notice is hereby given that the U.S. International Trade Commission has determined not to review an initial determination (“ID”) of the presiding administrative law judge (“ALJ”) (Order No. 19) in the above-captioned investigation terminating this investigation, as to the last remaining respondents, Hitachi Koki USA (“Hitachi”) and CDW Corp. (“CDW”).

FOR FURTHER INFORMATION CONTACT: Paul M. Bartkowski, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on April 27, 2007, based on a complaint filed by 3M Company and 3M Innovative Properties Company of St. Paul, Minnesota (collectively “3M”). 72 FR 21,050 (April 27, 2006). The complaint, as amended and supplemented, alleges violations of section 337 in the importation into the United States, the sale for importation, and the sale within the United States after importation of certain rechargeable lithium-ion batteries, components thereof, and products containing the same by reason of infringement of one or more of claims 1, 2, 13, and 15-19 of U.S. Patent No. 6,964,828 (“the ‘828 patent”) and claims 10, 15, 16, and 22 of U.S. Patent No. 7,078,128 (“the ‘128 patent”). The amended complaint also alleges that a domestic industry exists with regard to the ‘828 and ‘128 patents under 19 U.S.C. 1337 subsections (a)(2) and (a)(3). The amended complaint names Sony Corporation and Sony Electronics, Inc. (collectively, “Sony”); Lenovo Group Ltd. (Hong Kong) and Lenovo Inc. (USA) (collectively, “Lenovo”); CDW; Batteries Com, LLC (“Batteries Com”); Hitachi; Matsushita Industrial Electric Co., Ltd. (“Matsushita”); Panasonic Corporation of North America (“Panasonic”); Total Micro Technologies Inc. (“Total Micro”); and Sanyo Electric Co., Ltd. (“Sanyo”) as the proposed respondents. The amended complaint requests that the Commission institute an investigation pursuant to section 337 and, after the investigation, issue a permanent exclusion order and cease and desist orders. Subsequently, respondents Sony, Lenovo, Batteries Com, Matsushita, Panasonic, Total Micro, and Sanyo were terminated from the investigation. None of those determinations were reviewed by the Commission.

On November 9, 2007, the ALJ issued the subject ID terminating this investigation as to Hitachi and CDW pursuant to Commission rule 210.21 on the basis of settlement agreements with the suppliers of the batteries at issue. No petitions for review of the ID were filed. The Commission has determined not to review the ID.

3M filed a supplement to its motion pursuant to Commission rule 210.16 that it does not seek a general exclusion order. 3M also filed a declaration stating that it does not seek entry of a limited exclusion order against the lone defaulting respondent, Total Micro. The investigation is therefore terminated.

The authority for the Commission's determination is contained in section 337 of the Tariff Act of 1930, as amended (19 U.S.C. 1337), and in section 210.21, 210.41, and 210.42 of the Commission's Rules of Practice and Procedure (19 CFR 210.21, 210.41, 210.42).

By order of the Commission.
Issued: December 3, 2007.
Marilyn R. Abbott,
Secretary to the Commission.

[FR Doc. E7-23761 Filed 12-6-07; 8:45 am]

BILLING CODE 7020-02-P